FEDERAL ELECTION COMMISSION

Sunshine Act Notices

Date and Time: Thursday, November 19, 2009, at 10 a.m.

Place: 999 E Street, NW., Washington, DC (Ninth Floor).

Status: This meeting will be open to the public.

Items to be Discussed:

Correction and Approval of Minutes.

Notice of Proposed Rulemaking on Federal Officeholder's and Candidates' Participation in Certain Non-Federal Fundraising Events.

Final Rules on Campaign Travel.

Consideration of Policy to Place First General Counsel's Reports on the Public Record.

Adoption of Policy to Prepare and Publish a Guidebook for Complainants and Respondents in Enforcement Matters.

Co-sponsorship of 2010 COGEL Annual Meeting.

Management and Administrative Matters.

Individuals who plan to attend and require special assistance, such as sign language interpretation or other reasonable accommodations, should contact Mary Dove, Commission Secretary, at (202) 694-1040, at least 72 hours prior to the hearing date.

Person to Contact for Information: Judith Ingram, Press Officer, Telephone: (202) 694-1220.

Mary W. Dove,
Secretary of the Commission.

[FR Doc. E9-27976 Filed 11-25-09; 8:45 am]

BILLING CODE 6715-01-M